FEDERAL EMERGENCY MANAGEMENT AGENCY

44 CFR Part 67

[Docket No. FEMA-D-7536]

Proposed Flood Elevation Determinations

AGENCY: Federal Emergency Management Agency, FEMA.

ACTION: Proposed rule.

SUMMARY: Technical information or comments are requested on the proposed base (1% annual chance) flood elevations and proposed base flood elevation modifications for the communities listed below. The base flood elevations are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed base flood elevations for each community are available for inspection at the office of the Chief Executive Officer of each community. The respective addresses are listed in the following table.

FOR FURTHER INFORMATION CONTACT: Matthew B. Miller, P.E., Chief, Hazards Study Branch, Federal Insurance and Mitigation Administration, Federal Emergency Management Agency, 500 C Street SW., Washington, DC 20472, (202) 646-3461, or (e-mail) matt.miller@fema.gov.

SUPPLEMENTARY INFORMATION: The Federal Emergency Management Agency (FEMA or Agency) proposes to make determinations of base flood elevations and modified base flood elevations for each community listed below, in accordance with section 110 of the Flood Disaster Protection Act of 1973, 42 U.S.C. 4104, and 44 CFR 67.4(a).

These proposed base flood and modified base flood elevations, together with the floodplain management criteria required by 44 CFR 60.3, are the minimum that are required. They should not be construed to mean that the community must change any existing ordinances that are more stringent in their floodplain management requirements. The community may at any time enact stricter requirements of its own, or pursuant to policies established by other Federal, state or regional entities. These proposed elevations are used to meet the floodplain management requirements of the NFIP and are also used to calculate the appropriate flood insurance premium rates for new buildings built after these elevations are made final, and for the contents in these buildings.

National Environmental Policy Act

This proposed rule is categorically excluded from the requirements of 44 CFR part 10, Environmental Consideration. No environmental impact assessment has been prepared.

Regulatory Flexibility Act

The Administrator, Federal Insurance and Mitigation Administration, certifies that this proposed rule is exempt from the requirements of the Regulatory Flexibility Act because proposed or modified base flood elevations are required by the Flood Disaster Protection Act of 1973, 42 U.S.C. 4104, and are required to establish and maintain community eligibility in the NFIP. As a result, a regulatory flexibility analysis has not been prepared.

Regulatory Classification

This proposed rule is not a significant regulatory action under the criteria of section 3(f) of Executive Order 12866 of September 30, 1993, Regulatory Planning and Review, 58 FR 51735.

Executive Order 12612, Federalism

This proposed rule involves no policies that have federalism implications under Executive Order 12612, Federalism, dated October 26, 1987.

Executive Order 12778, Civil Justice Reform

This proposed rule meets the applicable standards of Section 2(b)(2) of Executive Order 12778.

List of Subjects in 44 CFR Part 67

Administrative practice and procedure, Flood insurance, Reporting and recordkeeping requirements.

Accordingly, 44 CFR Part 67 is proposed to be amended as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Source of flooding | Location | #Depth in feet above ground. •Elevation in feet (NGVD) Elevation in feet (NAVD): Existing | #Depth in feet above ground. •Elevation in feet (NGVD) Elevation in feet (NAVD): Modified | Communities affected
DELAWARE
Kent County (Unincorporated Areas), City of Dover, Town of Smyrna, Town of Leipsic, City of Milford, Town of Frederica, Town of Boweres, Town of Little Creek, Town of Clayton,
Andrews Lake | Approximately 1,525 feet downstream of Andrews Lake Road | None | *9 | Kent County (Unincorporated Areas)
| Approximately 1.25 miles upstream of Andrews Lake Road | None | *22
Beaverdam Ditch | At confluence with Tidy Island Creek | None | *46 | Kent County (Unincorporated Areas)
| Approximately 90 feet upstream of Taraila Road | None | *57
Browns Branch North | At the downstream side of the northbound lane of U.S. Route 13 | None | *42 | Kent County (Unincorporated Areas)
| At the downstream side of the southbound lane of U.S. Route 13 | None | *43
Browns Branch South | At Route 431 | None | *41 | Kent County (Unincorporated Areas)
| Approximately 1.04 miles upstream of Route 431 | None | *48
Cahoon Branch | At confluence with Maidstone Branch | *30 | *32 | Kent County (Unincorporated Areas), City of Dover
| Approximately 50 feet downstream of Navit Road | None | *58
Choptank River | Approximately 1.33 miles downstream of Still Road | None | *22 | Kent County (Unincorporated Areas)
| Approximately 0.5 mile upstream of confluence of Culbreth Marsh Ditch | None | *37
Coursey Pond | Approximately 1,030 feet downstream of Canterbury Road | None | *9 | Kent County (Unincorporated Areas)
| Approximately 1.3 miles upstream of Canterbury Road | None | *13
Cow Marsh Creek | At confluence with Choptank River | None | *26 | Kent County (Unincorporated Areas)
| At confluence of Willow Grove Prong | None | *51
Culbreth Marsh Ditch | At confluence with Choptank River | None | *37 | Kent County (Unincorporated Areas)
| Approximately 300 feet upstream of Lucks Drive | None | *49
Delaware Bay | At intersection of Big Stone Beach Road and Scotts Corner Road | *8 | *9 | Kent County (Unincorporated Areas), Town of Smyrna, Town of Leipsic, City of Milford, City of Dover, Town of Frederica, Town of Boweres, Town of Little Creek
| Approximately 375 feet north of intersection of North Street and Pearson Avenue Bowers, Woodland Beach | *11 | 813
Duck Creek | Approximately 1,660 feet downstream of Smyrna Landing Road | *8 | *9 | Kent County (Unincorporated Areas), Town of Smyrna, Town of Clayton
| Approximately 300 feet upstream of State Route 15 | None | *29
Fork Branch | At confluence with St. Jones River | *24 | *27 | Kent County (Unincorporated Areas), City of Dover
| Approximately 100 feet upstream of Shaws Corner Road | None | *64
Green Branch | At confluence with Marshyhope Creek | None | *41 | Kent County (Unincorporated Areas)
| Approximately 1,200 feet upstream of Layton Corners Road | None | *56
Green's Branch | Approximately 500 feet downstream of Main Street | None | *9 | Kent County (Unincorporated Areas), Town of Smyrna
| At CONRAIL | None | *27
Horsepen Arm | At confluence with Marshyhope Creek | None | *54 | Kent County (Unincorporated Areas)
| Approximately 650 feet upstream of Park Brown Road | None | *58
Little River | Just downstream of State Route 8 | None | *9 | Kent County (Unincorporated Areas), City of Dover
| Approximately 0.7 mile upstream of West Wind Drive | None | *25
Maidstone Branch | At the confluence with St. Jones River | *24 | *27 | Kent County (Unincorporated Areas), City of Dover
| Approximately 750 feet upstream of Sharon Hill Road | None | *49
Marshyhope Creek | At the downstream county boundary | None | *35 | Kent County (Unincorporated Areas)
| At the confluence of Horsepen Arm | None | *54
Marshyhope Ditch | At the confluence with Marshyhope Creek | None | *54 | Kent County (Unincorporated Areas)
| Approximately 500 feet upstream of Park Brown Road | None | *56
McColley Pond | Approximately 1,325 feet downstream of Canterbury Road | None | *9 | Kent County (Unincorporated Areas)
| Approximately 1.4 miles upstream of Canterbury Road | None | *12
McGinnis Pond | Approximately 1,125 feet downstream of McGinnis Pond Road | None | *9 | Kent County (Unincorporated Areas)
| Approximately 1.0 mile upstream of McGinnis Pond | None | *20
Mill Creek | At U.S. Route 13 | *8 | *9 | Kent County (Unincorporated Areas), Town of Smyrna
| At State Route 137 | *18 | *17
Morgan Branch | Approximately 0.4 mile upstream of the confluence with Little River | *9 | *10 | Kent County (Unincorporated Areas), City of Dover
| Approximately 1.5 miles upstream of Little Creek Road | None | *17
Penrose Branch | Approximately 750 feet upstream of Sharon Hill Road | None | *49 | Kent County (Unincorporated Areas)
| Approximately 1.9 miles upstream of Pearsons Corner Road | None | *66
Providence Creek | Approximately 300 feet upstream of U.S. Route 15 | None | *29 | Kent County (Unincorporated Areas), Town of Clayton
| Approximately 300 feet upstream of Alley Mill Road | None | *43
Puncheon Branch | Approximately 0.5 mile downstream of U.S. Route 113A | *8 | *9 | Kent County (Unincorporated Areas), City of Dover
| Approximately 900 feet downstream of U.S Route 113A | *8 | *9
St. Jones River | Approximately 1,170 feet downstream of Court Street | *9 | *10 | Kent County (Unincorporated Areas), City of Dover
| Approximately 1.11 miles upstream of West College Square | *25 | *27
Tappahanna Ditch | At the confluence with Tidy Island Creek | None | *46 | Kent County (Unincorporated Areas)
| Approximately 200 feet upstream of U.S. Route 8 | None | *64
Tantrough Branch | At City of Milford corporate limits | *19 | *15 | Kent County (Unincorporated Areas), City of Milford
| Approximately 0.62 mile upstream of Blairs Pond Dam | None | *34
Tidy Island Creek | Approximately 3,300 feet downstream of Mahan Corner Road | None | *44 | Kent County (Unincorporated Areas)
| At the confluence of Beaverdam Ditch and Tappahanna Ditch | None | *46
Willow Grove Prong | At confluence with Cow Marsh Creek | None | *51 | Kent County (Unincorporated Areas)
| Approximately 850 feet upstream of Honeysuckle Road | None | *57
Kent County (Unincorporated Areas)
Maps available for inspection at the Kent County Planning, 414 Federal Street, Dover, Delaware.
Send comments to Mr. Robert McLeod, Kent County Administrator, 414 Federal Street, Room 201, Dover, Delaware 19901.
Town of Bowers
Maps available for inspection at the North Bowers Fire Hall, Rural Drive #1 Bowers, Frederica, Delaware.
Send comments to The Honorabale William Poulin, Mayor of the Town of Bowers, 111 Church Street, Frederica, Delaware 19946.
Town of Clayton
Maps available for inspection at the Clayton Town Hall, 105 Main Street, Clayton, Delaware.
Send comments to The Honorable Robert Berhorn, Mayor of the Town of Clayton, P.O. Box 1130, Clayton, Delaware 19938.
City of Dover
Maps available for inspection at the Dover City Hall, 15 East Lockerman Street, Dover, Delaware.
Send comments to The Honorable James Hutchison, Mayor of the City of Dover, P.O. Box 475, Dover, Delaware 19903.
Town of Frederica
Maps available for inspection at the Frederica Town Hall, David Street, Frederica, Delaware.
Send comments to The Honorable Robert Volkomer, Mayor of the Town of Frederica, P.O. Box 294, Frederica, Delaware 19946.
Town of Leipsic
Maps available for inspection at Leipsic Town Hall, 192 Front Street, Leipsic, Delaware.
Send comments to The Honorable Norma Mohler, Mayor of the Town of Leipsic, 728 Leipsic Road, Dover, Delaware 19901.
Town of Little Creek
Maps available for inspection at the Little Creek Town Hall, 204 Main Street, Little Creek, Delaware.
Send comments to The Honorable Harry Marvel, Sr., Mayor of the Town of Little Creek, P.O. Box 298, Little Creek, Delaware 19961.
City of Milford
Maps available for inspection at the Milford City Hall, 201 South Walnut Street, Milford, Delaware.
Send comments to Mr. Richard Carmean, Milford City Manager, 201 South Walnut Street, Milford, Delaware 19963.
Town of Smyrna
Maps available for inspection at the Smyrna Town Hall, 27 Market Street, Plaza, Smyrna, Delaware.
Send comments to The Honorable Mark Schaeffer, Mayor of the Town of Smyrna, 27 South Market Street Plaza, P.O. Box 307, Smyrna, Delaware 19977.
PITT COUNTY, NORTH CAROLINA
Bells Branch | At the confluence with Hardee Creek | •19 | •20 | City of Greenville, Pitt County (Unincorporated Areas)
| Approximately 2,000 feet upstream of confluence | •19 | •20
Briery Swamp | At the confluence with Tranaters Creek | None | •22 | Pitt County (Unincorporated Areas)
| Approximately 0.4 mile upstream of Staton Mill Road | None | •61
Briery Swamp Tributary | At the confluence with Briery Swamp | None | •36 | Pitt County (Unincorporated Areas)
| Approximately 0.8 mile upstream of NC 903 | None | •44
Cheeks Mill Creek | Approximately 0.5 mile upstream of the confluence with the Tar River | None | •27 | Pitt County (Unincorporated Areas)
| A backwater area from a point approximately 1.8 miles upstream of the confluence with the Tar River | None | •39
Chicod Creek | At the confluence with the Tar River | •13 | •14 | Pitt County (Unincorporated Areas)
| Approximately 1,250 feet upstream of South Grimesland Bridge Road | None | •39
Conetoe Creek | At the confluence with the Tar River | •27 | •31 | Pitt County (Unincorporated Areas)
| At the confluence of Crisp Creek | None | •48
Cow Swamp | At the confluence with Chicod Creek | None | •19 | Pitt County (Unincorporated Areas)
| Approximately 2.6 miles upstream of Black Jack-Simpson Road | None | •46
Crisp Creek | At the confluence with Conetoe Creek | None | •48 | Pitt County (Unincorporated Areas), Town of Bethel
| Approximately 0.5 mile downstream of Interstate 64 | None | •51
Cross Swamp | At the confluence with Cow Swamp | None | •33 | Pitt County (Unincorporated Areas)
| Approximately 0.6 mile upstream of Black Jack-Grimesland Road | None | •37
Flat Swamp | At the confluence with Tranters Creek | None | •39 | Pitt County (Unincorporated Areas)
| Approximately 0.4 mile upstream of James Road | None | •42
Fornes Run | At the confluence with Green Mill Run | •24 | •21 | City of Greenville
| Approximately 1,850 feet upstream of the confluence with Green Mill Run | •26 | •27
Green Mill Run | At the confluence with the Tar River | •20 | •21 | City of Greenville, Pitt County (Unincorporated Areas)
| Approximately 270 feet upstream of Allen Road | None | •70
Grindle Creek | Approximately 2.0 miles upstream of the confluence with the Tar River | None | •14 | Pitt County (Unincorporated Areas)
| Approximately 500 feet upstream of U.S. 13/NC 11 | None | •39
Grindle Creek Tributary | At the confluence with Grindle Creek | None | •20 | Pitt County (Unincorporated Areas)
| Approximately 0.6 mile upstream of railroad | None | •30
Hardee Creek | At the confluence with the Tar River | •19 | •20 | City of Greenville, Pitt County (Unincorporated Areas)
| Approximately 1.1 miles upstream of Herman Garris Road | None | •57
Hardee Creek Tributary | Approximately 810 feet upstream of the confluence with Hardee Creek | •36 | •37 | City of Greenville
| Approximately 425 feet upstream of Joseph Street | •37 | •43
Harris Mill Run | At the confluence with the Tar River | •23 | •25 | City of Greenville, Pitt County (Unincorporated Areas)
| Approximately 0.4 mile upstream of Interstate 264 | None | •60
Hunting Run | At the confluence with Grindle Creek | None | •21 | Pitt County (Unincorporated Areas)
| Approximately 1.5 miles upstream of the confluence with Grindle Creek | None | •29
Island Swamp | At the confluence with Chicod Creek | None | •35 | Pitt County (Unincorporated Areas)
| Approximately 0.9 mile upstream of South Grimesland Bridge Road | None | •44
Johnsons Mill Run | At the confluence with the Tar River | •24 | •25 | Pitt County (Unincorporated Areas), City of Greenville
| Approximately 80 feet downstream of Staton House Road | None | •32
Johnsons Mill Run Tributary | At the confluence with Johnsons Mill Run | None | •26 | Pitt County (Unincorporated Areas), City of Greenville
| Approximately 900 feet downstream of Barrus Construction Road | None | •31
Juniper Branch | At the confluence with Chicod Creek | None | •15 | Pitt County (Unincorporated Areas)
| Approximately 0.4 mile upstream of Ivy Road | None | •47
Kitten Creek | At the confluence with Otters Creek | None | •36 | Pitt County (Unincorporated Areas), Town of Fountain
| Approximately 1.6 miles upstream of Dilda Church Road | None | •77
Lateral No. 1 | Approximately 150 feet upstream of the confluence with Parkers Creek | •22 | •23 | City of Greenville
| At Interstate 13 | •23 | •24
Lawrence Run | At the confluence with Tyson Creek | None | •33 | Pitt County (Unincorporated Areas)
| Approximately 1.8 miles upstream of NC 121 | None | •58
Meadow Branch | At the confluence with Briery Swamp | None | •22 | Pitt County (Unincorporated Areas)
| Approximately 0.7 mile upstream of Sheppard Mill Road | None | •47
Mill Branch | At the confluence with Whichard Branch | None | •41 | Pitt County (Unincorporated Areas)
| Approximately 0.4 mile upstream of Staton Mill Road | None | •59
North Fork Green Mill Run | Approximately 175 feet upstream of the confluence with Green Mill Run | •55 | •56 | City of Greenville, Pitt County (Unincorporated Areas)
| Approximately 1,100 feet upstream of Spring Forest Road | •68 | •69
Otter Creek | At the confluence with the Tar River | •29 | •33 | Pitt County (Unincorporated Areas), Town of Falkland
| Approximately 0.8 mile downstream of Edgewood Church Road | None | •51
Otter Creek Tributary | At the confluence with Otter Creek | None | •48 | Pitt County (Unincorporated Areas)
| Approximately 200 feet upstream of the confluence with Otter Creek | None | •48
Parkers Creek | At the confluence with the Tar River | •21 | •22 | City of Greenville
| Approximately 800 feet upstream of Staton Road | None | •26
Pea Branch | At the confluence with Tranters Creek | None | •15 | Pitt County (Unincorporated Areas)
| Approximately 400 feet upstream of Satterthwaite Road | None | •26
Poley Branch | At the confluence with Tranters Creek | None | •15 | Pitt County (Unincorporated Areas)
| Approximately 2,000 feet upstream of Sheppard Mill Road | None | •25
Tar River | Approximately 1.8 miles upstream of the confluence with Bear Creek | •10 | •9 | Pitt County (Unincorporated Areas), Town of Falkland, City of Greenville
| At the county boundary | •33 | •37
Thomas Canal | At the confluence with Conetoe Creek | None | •46 | Pitt County (Unincorporated Areas), Town of Bethel
| Approximately 900 feet upstream of Bowers Road | None | •49
Tranters Creek | Approximately 2.5 miles upstream of the confluence with the Tar River | None | •9 | Pitt County (Unincorporated Areas)
| Approximately 1.3 miles upstream of the confluence with Flat Swamp | None | •49
Tyson Creek | At the confluence with the Tar River | •27 | •30 | Pitt County (Unincorporated Areas), Town of Falkland
| Approximately 1.3 miles upstream of Seven Pines Road | None | •65
Whichard Branch | At the confluence with Grindle Creek | None | •32 | Pitt County (Unincorporated Areas)
| Approximately 0.8 mile upstream of David Nobles Road | None | •53
TOWN OF BETHEL
Maps available for inspection at Pitt County Planning Department, Development Services Building, 1717 West 5th Street, Greenville, North Carolina.
Send comments to Mr. Greg Zephir, Bethel Town Administrator, P.O. Box 337, Bethel, North Carolina 27812.
Town of Falkland
Maps available for inspection at the Town of Falkland Community Building, Main Street, Falkland, North Carolina.
Send comments to the Honorable J.P. Stanzil, Mayor of the Town of Falkland, P.O. Box AO, Falkland, North Carolina 27827.
Town of Fountain
Maps available for inspection at the Fountain Town Hall, 6777 West Wilson, Fountain, North Carolina.
Send comments to the Honorable Shirley Mitchell, Mayor of the Town of Fountain, P.O. Box 134, Fountain, North Carolina 27829.
City of Greenville
Maps available for inspection at the Greenville Community Planning Development Building, 306 South Green Street, Greenville, North Carolina.
Send comments to Mr. Marvin Davis, Greenville City Manager, P.O. Box 7207, Greenville, North Carolina 27835.
Pitt County Unincorporated Areas
Maps available for inspection at the Pitt County Planning Department, Development Services Building, 1717 West 5th Street, Greenville, North Carolina.
Send comments to Mr. Scott Elliot, Pitt County Manager, 1717 West 5th Street, Greenville, North Carolina 27834.
Village of Simpson
Maps available for inspection at the Pitt County Planning Department, Development Services Building, 1717 West 5th Street, Greenville, North Carolina.
Send comments to the Honorable Tracey Mayo, Mayor of the Village of Simpson, P.O. Box 10, Simpson, North Carolina 27879.
PENNSYLVANIA
Allegheny County (All Jurisdictions)
Chartiers Creek | At the upstream side of Ingram Avenue | None | •748 | Township of Robinson, Borough of Crafton, Borough of Rosslyn Farms, Borough of Thornburg
| Approximately 300 feet downstream of Chartiers Avenue | None | •754
BOROUGH OF CRAFTON
Maps available for inspection at the Crafton Borough Hall, 100 Stotz Avenue, Pittsburgh, Pennsylvania.
Send comments to Mr. Stephen Vincenti, Crafton Borough Manager, 100 Stotz Avenue, Pittsburgh, Pennsylvania 15205.
Township of Robinson
Maps available for inspection at Robinson Township Municipal Building, 1000 Church Hill Road, Pittsburgh, Pennsylvania.
Send comments to Mr. William L. Blumling, Chairman of the Robinson Township Board of Commissioners, 1000 Church Hill Road, Pittsburgh, Pennsylvania 15205.
Borough of Rosslyn Farms
Maps available for inspection at Rosslyn Farms Borough Municipal Office, 421 Kings Highway, Carnegie, Pennsylvania.
Send comments to Mr. Thomas B. Trebilcock, Rosslyn Farms Borough Council President, 421 Kings Highway, Carnegie, Pennsylvania 15106.
Borough of Thornburg
Maps available for inspection at the Thornburg Borough Office, 235 Tech Road, Pittsburgh, Pennsylvania.
Send comments to The Honorable Thomas P. Gordon, Mayor of the Borough of Thornburg, 235 Tech Road, Pittsburgh, Pennsylvania 15205.

(Catalog of Federal Domestic Assistance No. 83.100, “Flood Insurance.”)
Dated: August 30, 2002.
Anthony S. Lowe,
Administrator, Federal Insurance and Mitigation Administration.

[FR Doc. 02-22821 Filed 9-6-02; 8:45 am]

BILLING CODE 6718-04-P